DEPARTMENT OF TRANSPORTATION

Surface Transportation Board

[STB Docket No. AB-317 (Sub-No. 6X)]

Indiana Harbor Belt Railroad Company—Discontinuance of Trackage Rights Exemption—in Lake County, IN

Indiana Harbor Belt Railroad Company (IHB) has filed a verified notice of exemption under 49 CFR 1152 Subpart F—Exempt Abandonments and Discontinuances of Service and Trackage Rights to discontinue its local and overhead trackage rights over approximately 1.78 miles of Elgin, Joliet & Eastern Railway Company's (EJE) line of railroad extending from milepost 47.88 at Hammond, to milepost 46.10 at Hammond (Hammond Line), in Lake County, IN.¹ The line traverses United States Postal Service Zip Code 46320.

¹ IHB notes that EJE anticipates filing for authority to abandon the Hammond Line.

IHB has certified that: (1) No local traffic has moved via its trackage rights over the line for at least 2 years; (2) any IHB overhead traffic can be rerouted over other lines; (3) no formal complaint filed by a user of IHB rail service on the line (or by a state or local government entity acting on behalf of such user) regarding cessation of service over the line either is pending with the Surface Transportation Board (Board) or with any U.S. District Court or has been decided in favor of complainant within the 2-year period; and (4) the requirements at 49 CFR 1105.12 (newspaper publication), and 49 CFR 1152.50(d)(1) (notice to governmental agencies) have been met.

As a condition to this exemption, any employee adversely affected by the discontinuance of service shall be protected under Oregon Short Line R. Co.—Abandonment—Goshen, 360 I.C.C. 91 (1979). To address whether this condition adequately protects affected employees, a petition for partial revocation under 49 U.S.C. 10502(d) must be filed.

Provided no formal expression of intent to file an offer of financial assistance (OFA) has been received, this exemption will be effective on April 29, 2010, unless stayed pending reconsideration. Petitions to stay that do not involve environmental issues and formal expressions of intent to file an OFA for continued rail service under 49 CFR 1152.27(c)(2) ² must be filed by April 9, 2010.³ Petitions to reopen must be filed by April 19, 2010, with: Surface Transportation Board, 395 E Street, SW., Washington, DC 20423-0001.

² Each OFA must be accompanied by the filing fee, which currently is set at $1,500. See 49 CFR 1002.2(f)(25).

³ Because this is a discontinuance proceeding and not an abandonment, trail use/rail banking and public use conditions are not appropriate. Likewise, no environmental or historical documentation is required here under 49 CFR 1105.6(c) and 1105.8(b), respectively.

A copy of any petition filed with the Board should be sent to IHB's representative: Michael J. Barron, Jr., Fletcher & Sippel LLC, 29 North Wacker Drive, Suite 920, Chicago, IL 60606-2832.

If the verified notice contains false or misleading information, the exemption is void ab initio.

Board decisions and notices are available on our website at www.stb.dot.gov.

Decided: March 25, 2010.
By the Board, Rachel D. Campbell, Director, Office of Proceedings.
Kulunie L. Cannon,
Clearance Clerk.

[FR Doc. 2010-7015 Filed 3-29-10; 8:45 am]

BILLING CODE 4915-15-P